DEPARTMENT OF THE INTERIOR

Fish and Wildlife Service

[FWS-R5-R-2012-N062; BAC-4311-K9-S3]

Montezuma National Wildlife Refuge, Cayuga, Seneca, and Wayne Counties, NY; Draft Comprehensive Conservation Plan and Environmental Assessment

AGENCY: Fish and Wildlife Service, Interior.

ACTION: Notice of availability; request for comments.

SUMMARY: We, the U.S. Fish and Wildlife Service (Service), announce the availability of a draft comprehensive conservation plan and environmental assessment (draft CCP/EA) for Montezuma National Wildlife Refuge (NWR), located in Cayuga, Seneca, and Wayne Counties, New York, for public review and comment. The draft CCP/EA describes our proposal for managing the refuge for the next 15 years. Also available for public review and comment are: (1) The draft findings of appropriateness and draft compatibility determinations for uses to be allowed upon initial completion of the plan if Service-preferred alternative B is selected, (2) the EA for the refuge's hunt program, and (3) the EA for the refuge's fire program. These are included as appendix B, appendix E, and appendix H, respectively, in the draft CCP/EA.

DATES: To ensure consideration, please send your written comments no later than June 21, 2012. We will announce upcoming public meetings in local news media, via our project mailing list, and on our regional planning Web site: http://www.fws.gov/northeast/planning/Montezuma/ccphome.html.

ADDRESSES: You may submit comments or requests for copies or more information by any of the following methods. You may request hard copies or a CD-ROM of the documents.

Email: northeastplanning@fws.gov. Please include “Montezuma NWR Draft CCP” in the subject line of the message.

Fax: Attn: Lia McLaughlin, 413-253-8468.

U.S. Mail: Lia McLaughlin, Natural Resource Planner, U.S. Fish and Wildlife Service, 300 Westgate Center Drive, Hadley, MA 01035.

In-Person Drop-off, Viewing, or Pickup: Call 315-568-5987 to make an appointment (necessary for view/pickup only) during regular business hours at 3395 Route 5/20 East, Seneca Falls, NY 13148-9778. [For more information on locations for viewing or obtaining documents, see “Public Availability of Documents” under SUPPLEMENTARY INFORMATION.]

FOR FURTHER INFORMATION CONTACT: Tom Jasikoff, Refuge Manager, 315-568-5987 (phone), or Lia McLaughlin, Planning Team Leader, 413-253-8575 (phone); northeastplanning@fws.gov (email).

SUPPLEMENTARY INFORMATION:

Introduction

With this notice, we continue the CCP process for Montezuma NWR. We started this process through a notice in the Federal Register (75 FR 25286; May 7, 2010).

Montezuma NWR was established in 1938 to provide nesting, feeding, and resting habitat for waterfowl and other migratory birds. Situated in Seneca, Wayne, and Cayuga Counties, the refuge currently encompasses 9,184 acres. Refuge habitats include emergent marshes and shallow water mudflats, open water, bottomland floodplain forest, old fields and shrublands, croplands, grassland, and successional forest. The refuge is part of the Montezuma Wetlands Complex, an area identified by the Service, the New York State Department of Environmental Conservation (NYSDEC), and other partners for its role in the conservation of migratory birds, particularly waterfowl. The refuge's public use program provides wildlife-oriented educational and recreational opportunities compatible with refuge management objectives. Public use facilities and programs include several trails, a visitor center, observation towers and platforms, fishing access sites, hunting programs, trapping program, educational programs and materials, guided tours, and other special programs.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Public Outreach

We started pre-planning for the Montezuma NWR CCP in February 2010. In April 2010, we distributed our first newsletter and press release announcing our intent to prepare a CCP for the refuge. In May through June 2010, we had a formal public scoping period. The purpose of the public scoping period was to solicit comments from the community and other interested parties on the issues and impacts that should be evaluated in the draft CCP/EA. To help solicit public comments, we held two public meetings at the refuge during the formal public scoping period. Throughout the rest of the planning process, we have conducted additional outreach by participating in community meetings, events, and other public forums, and by requesting public input on managing the refuge and its programs. We received comments on topics such as the potential effects of climate change, improving habitat connectivity, relationship with the community and local economy, refuge facilities and staffing, and public uses of the refuge. We have considered and evaluated all of these comments, with many incorporated into the various alternatives addressed in the draft CCP/EA.

CCP Alternatives We Are Considering

During the public scoping process, we, the NYSDEC, other governmental partners, and the public raised several issues. To address these issues, we developed and evaluated three alternatives in the draft CCP/EA. Here we present a brief summary of each of the alternatives; a full description of each alternative is in the draft CCP/EA.

Alternative A (Current Management)

Alternative A (current management) satisfies the National Environmental Policy Act (42 U.S.C. 4321 et seq.) requirement of a “No Action” alternative, which we define as “continuing current management.” It describes our existing management priorities and activities, and serves as a baseline for comparing and contrasting alternatives B and C. It would maintain our present levels of approved refuge staffing and the biological and visitor programs now in place. We would continue to focus on managing impoundments to provide emergent marsh and open water habitats for migrating and nesting wading birds, marshbirds, waterfowl, shorebirds, and other wildlife. We would also continue to actively control invasive species, manage grassland habitats, and improve riparian and other forested habitats. We would continue to provide opportunities for all six priority public uses: hunting, fishing, wildlife observation, photography, environmental education, and interpretation.

Alternative B (Service-Preferred Alternative)

This alternative is the Service-preferred alternative. It combines the actions we believe would most effectively achieve the refuge's purposes, vision, and goals, and respond to the issues raised during the scoping period. Under alternative B, emergent marsh management would remain the focus on the refuge. We would focus efforts on improving existing emergent wetland habitat and restoring additional acres, and re-establishing wetland and riparian forests, where feasible. More upland forest would be promoted through succession or planting native species. Additionally, shrubland acreage would increase, and grassland management would focus on creating larger patches with less edge, resulting in fewer grassland acres overall. Opportunities for visitors to participate in priority public uses would increase. Added trails, viewing areas, and photography blinds would support additional opportunities for wildlife observation and photography. We would develop a formal, curriculum-based environmental education program. Environmental interpretation would be enhanced through updated interpretive displays and associated services. The refuge would be opened to new hunting opportunities, and we would provide more accessible sites. Fishing opportunities would be increased by providing additional access to canal waters for anglers.

Alternative C (Less Active Habitat Management)

Under alternative C, most emergent marsh habitat on the refuge would be allowed to convert to bottomland floodplain forest. Only the Main Pool, Tschache Pool, and visitor center wetland impoundments would be maintained. Newly acquired lands would not be converted to impoundments. Natural succession would play a larger role in shaping vegetative communities on the refuge compared to alternatives A and B. We would allow most upland early successional habitats to revert to forests. Compared to alternative A, opportunities for visitors to participate in priority public uses would increase under this alternative, but not to the extent proposed under alternative B. We would develop a few additional sites to support wildlife observation and photography. Interpretation would be somewhat increased with the expansion of the visitor contact station. Interpretive messages would be changed, reflecting the different focus of refuge management. Hunting opportunities would increase, similar to alternative B; however, waterfowl hunting would remain unchanged. Fishing opportunities would be the same as alternative B.

Public Availability of Documents

In addition to any methods in ADDRESSES, you can view or obtain documents at the following locations:

• Our Web site: http://www.fws.gov/northeast/planning/Montezuma/ccphome.html.

• Public Library: the Seneca Falls Library, located at 47 Cayuga Street, Seneca Falls, NY 13148, during regular library hours.

Submitting Comments/Issues for Comment

We are seeking substantive comments, particularly on the following issues:

• Issue 1—public facilities and public uses;

• Issue 2—habitat restoration efforts; and

• Issue 3—partnership opportunities.

We consider comments substantive if they:

• Question, with reasonable basis, the accuracy of the information in the document;

• Question, with reasonable basis, the adequacy of the EA;

• Present reasonable alternatives other than those presented in the EA; and/or

• Provide new or additional information relevant to the EA.

Next Steps

After this comment period ends, we will analyze the comments and address them in the form of a final CCP and finding of no significant impact.

Public Availability of Comments

Before including your address, phone number, email address, or other personal identifying information in your comment, you should be aware that your entire comment—including your personal identifying information—may be made publicly available at any time. While you can ask us in your comment to withhold your personal identifying information from public review, we cannot guarantee that we will be able to do so.

Dated: April 26, 2012.
Wendi Weber,
Regional Director, Northeast Region.

[FR Doc. 2012-12373 Filed 5-21-12; 8:45 am]

BILLING CODE 4310-55-P